PRESIDIO TRUST

Notice of Receipt of and Availability for Public Comment on an Application for Wireless Telecommunications Facilities Site; The Presidio of San Francisco, California

AGENCY: The Presidio Trust.

ACTION: Public notice.

SUMMARY: This notice announces the Presidio Trust's receipt of and availability for public comment on an application from New Cingular Wireless PCS, LLC for installation of a wireless telecommunications facilities site (“Project”) in The Presidio of San Francisco. The proposed location of the Project is the south side of the MacArthur Tunnel.

The Project involves (i) installing a 32-foot pole with two sets of antennae panels and power and telecommunications panels, (ii) placing the associated telecommunications equipment within three cabinets on a concrete pad, and (iii) mounting two antennae on the south face of the MacArthur Tunnel wall. Power and telecommunications service will be brought to the site via underground trench.

Comments: Comments on the proposed project must be sent to Steve Carp, Presidio Trust, 34 Graham Street, P.O. Box 29052, San Francisco, CA 94129-0052, and be received by October 12, 2005. A copy of Cingular's application is available upon request to the Presidio Trust.

FOR FURTHER INFORMATION CONTACT: Steve Carp, Presidio Trust, 34 Graham Street, P.O. Box 29052, San Francisco, CA 94129-0052. E-mail: scarp@presidiotrust.gov. Telephone: 415-561-5300.

Dated: September 2, 2005.
Steve Carp,
Legal Analyst.

[FR Doc. 05-17899 Filed 9-8-05; 8:45 am]

BILLING CODE 4310-4R-P